DEPARTMENT OF DEFENSE

Office of the Secretary

[Docket ID: DoD-2013-OS-0232]

Notice of Availability (NOA) for Temporary Storage of Wheeled Tactical Vehicles (WTV) at Defense Supply Center Richmond, Virginia, Environmental Assessment (EA) Finding of No Significant Impact (FONSI)

AGENCY: Defense Logistics Agency, Department of Defense.

ACTION: Notice of Availability (NOA) for Temporary Storage of Wheeled Tactical Vehicles (WTV) at Defense Supply Center Richmond, Virginia, Environmental Assessment (EA) Finding of No Significant Impact (FONSI).

SUMMARY: On December 27, 2013, Defense Logistics Agency (DLA) published a NOA in the Federal Register (78 FR 78943) announcing the publication of the Temporary Storage of WTVs at Defense Supply Center Richmond, Virginia, EA. The EA was available for a 30-day public comment period which ended January 26, 2014. The EA was prepared as required under the National Environmental Policy Act (NEPA), (1969). In addition, the EA complied with DLA Regulation (DLAR) 1000.22. DLA received a comment from the Virginia Department of Environmental Quality (DEQ). The agency has reviewed the comment and is in accord with many of the DEQ recommendations and will continue to work with DEQ in successfully managing the temporary storage of the WTVs. This FONSI documents the decision of DLA to temporarily store wheeled tactical vehicles at Defense Supply Center Richmond, Virginia. DLA has determined that the proposed action was not a major federal action significantly affecting the quality of the human environment within the context of NEPA and that no significant impacts on the human environment are associated with this decision.

FOR FURTHER INFORMATION CONTACT: Ann Engelberger at (703) 767-0705 during normal business hours Monday through Friday, from 8:00 a.m. to 4:30 p.m. (EST) or by email: Ann.Engelberger@dla.mil.

SUPPLEMENTARY INFORMATION: The Defense Logistics Agency (DLA) completed an environmental assessment (EA) to address the potential environmental consequences associated with the temporary storage of wheeled tactical vehicles (WTVs) at Defense Supply Center Richmond (DSCR), Virginia. The FONSI incorporates the EA by reference and summarizes the results of the analysis in the EA.

Purpose and Need for Action: The Proposed Action is needed to provide a common location for the temporary storage of fully functional WTVs that are no longer required by the United States military. These WTVs would be staged for sale or for off-site demilitarization. DLA does not currently have a storage site for these surplus wheeled tactical vehicles and needs a storage site that can be ready to accept these vehicles in early 2014. Defense Supply Center Richmond (DSCR), Virginia, has space available for the temporary storage of the vehicles and the space does not require time and material intensive modifications.

Proposed Action and Alternatives: Under the Proposed Action, DLA would store WTVs temporarily at DSCR for up to three years beginning in early 2014. Approximately 600 to 2,500 WTVs would be stored at the installation at any one time. Assuming 100 percent turnover every 1.5 years, a total of 1,200 to 5,000 WTVs would be cycled through the installation over a three-year period. The WTVs would be shipped to the installation from multiple continental United States military installations via flat-bed or low-boy tractor-trailers. Delivery of the WTVs would be spread out to reduce the impact on traffic and would occur during regular work week hours. The tractor-trailers would arrive and depart through the installation's North Gate and access the proposed WTV storage sites via Road “A.”

Two sites at the installation would be used to store the WTVs. The Primary Vehicle Storage Site is a 5.3-acre gravel lot located south of Buildings 3 and 4. If the Primary Vehicle Storage Site reaches capacity, additional WTVs could be stored at the Secondary Vehicle Storage Site which is a 21-acre gravel lot located west of Building 54. A maximum of 2,500 vehicles would be stored on the installation at any one time. A chain-link fence would be installed around each proposed WTV storage site and signposts mounted on cinderblocks (or similar) would be placed inside the proposed WTV storage sites to designate storage locations.

The WTVs would be stored in a running state suitable for sale and, as such, would contain batteries and all fluids. Absorbent pads would be placed beneath the WTVs and DLA Disposition Services staff would perform weekly inspections of the WTVs and absorbent pads. Only emergency maintenance necessary to stop leaks or repair inoperable vehicles would be conducted.

The WTVs would be shipped by tractor-trailer from the installation (via Road “A” and the North Gate) as they are sold or sent off-site for demilitarization. WTV parking spaces freed up by departing WTVs would be available for incoming vehicles.

Description of the No Action Alternative: Under the No Action Alternative, DLA would not receive, store and ship WTVs at DSCR. In general, implementation of the No Action Alternative would mean that DLA would not have a common location for these WTVs awaiting sale or demilitarization. The WTVs would stay in their current locations at various military installations which would lead to inefficiencies and difficulties in selling the vehicles. As such, they would not be able to be screened, reconciled or inspected in a timely manner. The No Action Alternative would not meet the purpose of and need for the Proposed Action.

Potential Environmental Impacts: No significant effects on environmental resources would be expected from the Proposed Action. Insignificant, adverse effects on noise, air quality, geological resources, water resources, transportation and hazardous materials and waste would be expected. The adverse effects would be short-term, lasting only for the duration of the Proposed Action. Details of the environmental consequences were discussed in the EA which is hereby incorporated by reference.

Determination: DLA has determined that implementation of the Proposed Action will not have a significant effect on the human environment. Human environment was interpreted comprehensively to include the natural and physical environment and the relationship of people with that environment. Specifically, no highly uncertain or controversial impacts, unique or unknown risk or cumulatively significant effects were identified. Implementation of the Proposed Action will not violate any federal, state or local laws. Based on the results of the analyses performed during the preparation of the environmental assessment, David Rodriguez, Director, DLA Installation Support, concludes that temporary storage of wheeled tactical vehicles at Defense Supply Center Richmond, Virginia, does not constitute a major federal action significantly affecting the quality of the human environment within the context of NEPA. Therefore, an environmental impact statement for the proposed action is not required.

Dated: March 5, 2014.
Aaron Siegel,
Alternate OSD Federal Register Liaison Officer, Department of Defense.

[FR Doc. 2014-05081 Filed 3-7-14; 8:45 am]

BILLING CODE 5001-06-P